CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled 2015 Pay for Success Grant Opportunity for review and approval in accordance with the Paperwork Reduction Act of 1995, Public Law 104-13, (44 U.S.C. Chapter 35). Copies of this ICR, with applicable supporting documentation, may be obtained by calling the Corporation for National and Community Service, Jennifer Stoff, at 202-606-7570 or email to jstoff@cns.gov. Individuals who use a telecommunications device for the deaf (TTY-TDD) may call 1-800-833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments: A 60-day Notice requesting public comment was published in the Federal Register on September 29, 2014. This comment period ended November 29, 2014. No public comments were received from this Notice.

Description: The Corporation for National and Community Service has submitted a public information collection request (ICR) titled “2015 Application Instructions for Social Innovation Fund Pay for Success Grant Competition” for review and approval in accordance with the Paperwork Reduction Act of 1995, Public Law 104-13, (44 U.S.C. Chapter 35). Copies of this ICR, with applicable supporting documentation, may be obtained by calling the Corporation for National and Community Service, Jennifer Stoff at 202-606-7570 or email to jstoff@cns.gov. Individuals who use a telecommunications device for the deaf (TTY-TDD) may call 1-800-833-3722 between 8:00 a.m. and 8:00 p.m. Eastern Time, Monday through Friday.

Type of Review: Renewal.

Agency: Corporation for National and Community Service.

Title: 2015 Application Instructions for Social Innovation Fund Pay for Success Grant Competition.

OMB Number: TBD.

Agency Number: None.

Affected Public: State and Local Government entities, Indian Tribes, nonprofit organizations.

Total Respondents: Approximately 50.

Frequency: 24 hours per response.

Estimated Total Burden Hours: 1,200 burden hours.

Total Burden Cost (capital/startup): None.

Total Burden Cost (operating/maintenance): None.

Dated: January 24, 2015.
Melissa Bradley,
Acting Director, Social Innovation Fund.

[FR Doc. 2015-01478 Filed 1-26-15; 8:45 am]

BILLING CODE 6050-28-P